DEPARTMENT OF TRANSPORTATION

Surface Transportation Board

[STB Docket No. AB-290 (Sub-No. 269X)]

Norfolk Southern Railway Company—Discontinuance of Service Exemption—in Norfolk, VA

On March 28, 2006, Norfolk Southern Railway Company (NSR) filed with the Board a petition under 49 U.S.C. 10502 for exemption from the provisions of 49 U.S.C. 10903 to discontinue service over an approximately 1.63-mile line of railroad between milepost VB-0.12 near Park Avenue and milepost VB-1.75 near Tidewater Junction in Norfolk, VA. The line traverses U.S. Postal Service Zip Codes 23502 and 23504, and serves the station of Tidewater Junction in Norfolk.

The line does not contain federally granted rights-of-way. Any documentation in the possession of the railroad will be made available promptly to those requesting it.

The interest of railroad employees will be protected by the conditions set forth in Oregon Short Line R. Co.-Abandonment-Goshen, 360 I.C.C. 91 (1979).

By issuing this notice, the Board is instituting an exemption proceeding pursuant to 49 U.S.C. 10502(b). A final decision will be issued by July 14, 2006.

Any offer of financial assistance (OFA) under 49 CFR 1152.27(b)(2) will be due no later than 10 days after service of a decision granting the petition for exemption. Each OFA must be accompanied by a $1,300 filing fee. See 49 CFR 1002.2(f)(25).¹

¹ Because this is a discontinuance proceeding and not an abandonment, trail use/rail banking and public use conditions are not appropriate. Likewise, no environmental or historic documentation is required under 49 CFR 1105.6(c) and 1105.8.

All filings in response to this notice must refer to STB Docket No. AB-290 (Sub-No. 269X) and must be sent to: (1) Surface Transportation Board, 1925 K Street, NW., Washington, DC 20423-0001; and (2) James R. Paschall, Three Commercial Place, Norfolk, VA 23510-2191. Replies to the petition are due on or before May 8, 2006.

Persons seeking further information concerning discontinuance procedures may contact the Board's Office of Public Services at (202) 565-1592 or refer to the full abandonment or discontinuance regulations at 49 CFR part 1152. Questions concerning environmental issues may be directed to the Board's Section of Environmental Analysis at (202) 565-1539. [Assistance for the hearing impaired is available through the Federal Information Relay Service (FIRS) at 1-800-877-8339.]

Board decisions and notices are available on our Web site at “http://www.stb.dot.gov.”

Decided: April 7, 2006.
By the Board, David M. Konschnik, Director, Office of Proceedings.
Vernon A. Williams,
Secretary.

[FR Doc. E6-5492 Filed 4-14-06; 8:45 am]

BILLING CODE 4915-01-P